DEPARTMENT OF THE INTERIOR

Bureau of Land Management

[LLORN00100.L63340000.PH0000.18XL1116AF.LXSSH1020000.HAG 18-0024]

Notice of Public Meeting for the Northwest Oregon Resource Advisory Council

AGENCY: Bureau of Land Management, Interior.

ACTION: Notice of public meeting.

SUMMARY: In accordance with the Federal Land Policy and Management Act of 1976, the Federal Advisory Committee Act of 1972, and the Federal Lands Recreation Enhancement Act of 2004, the U.S. Department of the Interior, Bureau of Land Management's (BLM) Northwest Oregon Resource Advisory Council (RAC) will meet as indicated below.

DATES: The Northwest Oregon RAC will hold a public meeting on Thursday, February 22, 2018, from 9:00 a.m. to 4:30 p.m. Pacific Daylight Time.

ADDRESSES: The Northwest Oregon RAC will meet at the BLM Northwest Oregon District Office, 1717 Fabry Road SE, Salem, OR 97306. Written comments may also be sent to the Northwest Oregon District office.

FOR FURTHER INFORMATION CONTACT: Jennifer Velez, Public Affairs Officer, 1717 Fabry Road SE, Salem, OR 97306; (541) 222-9241; jvelez@blm.gov. Persons who use a telecommunications device for the deaf (TDD) may call the Federal Relay Service (FRS) at 1 (800) 877-8339 to contact the above individuals during normal business hours. The FRS is available 24 hours a day, 7 days a week, to leave a message or question with the above individuals. You will receive a reply during normal business hours.

SUPPLEMENTARY INFORMATION: The Northwest Oregon RAC consists of 15 members chartered and appointed by the Secretary of the Interior to serve in an advisory capacity concerning the planning and management of the public land resources located within the BLM's Northwest Oregon District. Members represent an array of stakeholder interests in the land and resources from within the local area and statewide.

All advisory council meetings are open to the public. The public comment period will begin at 3:30 p.m. and continue to 4:00 p.m. Depending on the number of people wishing to comment and the time available, the amount of time for individual oral comments may be limited. Persons wishing to make comments during the public comment period should register in person with the BLM, at the meeting location, preceding that meeting day's comment period. The public may also submit written comments to Jennifer Velez, Public Affairs Officer, 1717 Fabry Road SE, Salem, OR 97306; by telephone (541) 222-9241; or by email jvelez@blm.gov, no later than Wednesday, February 21, 2018. All written comments received prior to the meeting will be provided to the council members.

At the February 22 meeting, RAC members will receive an orientation of the Federal Lands Recreation Enhancement Act and may make recommendations on recreation fee proposals for a variety of sites within the Northwest Oregon District. Other topics will include general updates and a review of minutes from the July 2017 meeting.

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Jose Linares,
Northwest Oregon District Manager.

[FR Doc. 2018-02680 Filed 2-8-18; 8:45 am]

BILLING CODE 4310-33-P